NUCLEAR REGULATORY COMMISSION

[NRC-2012-0227]

Regulatory Guide 5.67, Material Control and Accounting for Uranium Enrichment Facilities Authorized To Produce Special Nuclear Material of Low Strategic Significance

AGENCY: Nuclear Regulatory Commission.

ACTION: Regulatory guide; withdrawal.

SUMMARY: The U.S. Nuclear Regulatory Commission (NRC) is withdrawing Regulatory Guide (RG) 5.67, “Material Control and Accounting for Uranium Enrichment Facilities Authorized to Produce Special Nuclear Material of Low Strategic Significance.” The guide is being withdrawn because it is no longer needed and more extensive guidance can be found in NUREG/CR-5734, “Recommendations to the NRC on Acceptable Format and Content for the Fundamental Nuclear Material Control (FNMC) Plan Required for Low-Enriched Uranium Facilities” which was issued in November 1991.

ADDRESSES: Please refer to Docket ID NRC-2012-0227 when contacting the NRC about the availability of information on this document. You may access information related to this document, which the NRC possesses and is publicly available, using the following methods:

• Federal Rulemaking Web site: Go to http://www.regulations.gov and search for Docket ID NRC-2012-0227. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The review of the withdrawal of RG 5.67 is available in ADAMS under Accession No. ML12110A280.

• NRC's PDR: You may examine and purchase copies of public documents at the NRC's PDR, Room O1-F21, One White Flint North, 11555 Rockville Pike, Rockville, Maryland 20852.

FOR FURTHER INFORMATION CONTACT: Glenn Tuttle, Office of Nuclear Material Safety and Safeguards, Division of Fuel Cycle Safety and Safeguards, U.S. Nuclear Regulatory Commission, Washington, DC 20555-0001, telephone: 301-492-3129; or by email at Glenn.Tuttle@nrc.gov.

SUPPLEMENTARY INFORMATION:

I. Introduction

The NRC is withdrawing RG 5.67 because its guidance is no longer needed. RG 5.67 was published in December 1993 to provide guidance to the Paducah and Portsmouth Gaseous Diffusion Plants (GDPs) to develop their material control and accounting (MC&A) programs under Title 10, Code of Federal Regulations (10 CFR) part 76. RG 5.67 was used in conjunction with the 10 CFR part 74 MC&A guidance in NUREG/CR-5734, “Recommendations to the NRC on Acceptable Format and Content for the Fundamental Nuclear Material Control (FNMC) Plan Required for Low-Enriched Uranium Facilities” to develop the FNMC plans for the two GDPs in the 1990s.

The NRC is withdrawing this regulatory guide because NUREG/CR-5734 is more comprehensive than RG 5.67 and is applicable to the Paducah GDP and other uranium enrichment facilities that have been licensed under 10 CFR part 70. Topics that are covered only briefly in RG 5.67 are covered in detail in NUREG/CR-5734. Therefore, the guidance in RG 5.67 is not needed.

II. Further Information

As discussed above, the guidance provided in RG 5.67 is no longer necessary and is addressed in more detail by NUREG/CR-5734. Regulatory guides may be withdrawn when their guidance no longer provides useful information.

Withdrawal of a regulatory guide means that the NRC staff no longer approves, as a generic matter, the guidance in the withdrawn regulatory guide. Therefore, a certificate holder or licensee who wishes to follow the guidance bears the responsibility of demonstrating, in the appropriate circumstance, that the guidance in the withdrawn regulatory guide is applicable to the certificate holder or licensee's specific situation. Current certificate holders or licensees who have included RG 5.67 in their licensing basis may continue to use it, and withdrawal of the guide does not affect their existing licensing documents or agreements. Changes to existing licenses (or 10 CFR part 76 certificates) must be accomplished in accordance with applicable NRC requirements.

Dated at Rockville, Maryland, this 24th day of September, 2012.
For the Nuclear Regulatory Commission.
Thomas H. Boyce,
Branch Chief, Regulatory Guide Development Branch, Division of Engineering, Office of Nuclear Regulatory Research.

[FR Doc. 2012-24282 Filed 10-2-12; 8:45 am]

BILLING CODE 7590-01-P